DEPARTMENT OF DEFENSE

Office of Secretary

[Docket ID: DoD-2008-OS-0014]

Privacy Act of 1974; System of Records

AGENCY: National Security Agency/Central Security Service, DoD.

ACTION: Notice to Amend System of Records.

SUMMARY: The National Security Agency/Central Security Service is proposing to amend an exempt system of records in its existing inventory of record systems subject to the Privacy Act of 1974, (5 U.S.C. 552a), as amended.

DATES: This proposed action would be effective without further notice on October 31, 2008 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: September 23, 2008.
Patricia L. Toppings,
OSD Federal Register Liaison Officer, Department of Defense.

GNSA 16

System name:

NSA/CSS Drug Testing Program (February 22, 1993, 58 FR 10531).

Changes:

* * * * *

Authority for maintenance of the system:

Delete entry and replace with “5 U.S.C. 7302 note; 5 U.S.C. § 7361, Drug abuse; E.O. 12564, Drug-Free Workplace; DoD Directive 1010.9, DoD Civilian Employee Drug Abuse Testing Program; and E.O. 9397 (SSN).”

* * * * *

Storage:

Delete entry and replace with “Paper in file folders and electronic storage media.”

Safeguards:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection.”

Retention and disposal:

Delete entry and replace with “Records relating to the selection of specific employees/applicants for testing, the scheduling of tests and negative test results are retained for three years and then destroyed by shredding, burning, or erasure in the case of electronic media. Positive test records are permanently retained.”

System Manager:

Delete entry and replace with “NSA Drug Program Coordinator, National Security Agency/Central Security Service, Ft. George G. Meade, MD 20755-6000.”

Notification Procedure:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

Record Access Procedures:

Delete entry and replace with “Individuals seeking access to information about themselves contained in this system should address written inquiries to the National Security Agency/Central Security Service, Freedom of Information Act/Privacy Act Office, 9800 Savage Road, Ft. George G. Meade, MD 20755-6000. Written inquiries should contain the individual's full name, Social Security Number (SSN) and mailing address.”

Contesting Record Procedures:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

GNSA 16

System name:

NSA/CSS Drug Testing Program.

System location:

National Security Agency/Central Security Service, Ft. George G. Meade, MD 20755-6000.

Categories of individuals covered by the system:

NSA/CSS applicants for employment and employees tested for the use of illegal drugs.

Categories of records in the system:

The user's name, Social Security Number (SSN), an assigned identification (I.D.) code, organization, work phone number, and records relating to the selection, notification, and testing of covered individuals as well as urine specimens and drug test results and other related information.

Authority for maintenance of the system:

5 U.S.C. 7302 note; 5 U.S.C. 7361, Drug abuse; E.O. 12564, Drug-Free Workplace; DoD Directive 1010.9, DoD Civilian Employee Drug Abuse Testing Program; and E.O. 9397 (SSN).

Purpose(s):

The system is used to maintain NSA/CSS Drug Program Coordinator records on the selection, notification, and testing (i.e., urine specimens, drug test results, chain of custody records, etc.) of employees and applicants for employment for illegal drug use.

Records contained in this system are also used by the employee's Medical Review Official; the administrator of any Employee Assistance Program in which the employee is receiving counseling or treatment or is otherwise participating; and supervisory or management officials within the employee's Agency having authority to take adverse personnel action against such employee.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

In order to comply with provisions of 5 U.S.C. 7301, NSA/CSS' `Blanket Routine Uses' do not apply to this system of records. To a court of competent jurisdiction where required by the United States Government to defend against any challenge against any adverse personnel action.

Policies and practices for storing, retrieving, accessing, retaining, and disposing of records in the system:

Storage:

Paper in file folders and electronic storage media.

Retrievability:

Records are retrieved by the user's name, Social Security Number (SSN), or assigned identification (I.D.) code.

Safeguards:

Buildings are secured by a series of guarded pedestrian gates and checkpoints. Access to facilities is limited to security-cleared personnel and escorted visitors only. Within the facilities themselves, access to paper and computer printouts are controlled by limited-access facilities and lockable containers. Access to electronic means is limited and controlled by computer password protection.

Retention and disposal:

Records relating to the selection of specific employees/applicants for testing, the scheduling of tests and negative test results are retained for three years and then destroyed by shredding, burning, or erasure in the case of electronic media. Positive test records are permanently retained.

System manager(s) and address:

NSA Drug Program Coordinator, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

Record access procedures:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

Contesting record procedures:

The NSA/CSS rules for contesting contents and appealing initial determinations are published at 32 CFR part 322 or may be obtained by written request addressed to the National Security Agency/Central Security Service, Freedom of Information Act/Privacy Act Office, 9800 Savage Road, Ft. George G. Meade, MD 20755-6000.

Record source categories:

Contents of the record are obtained from the individual about whom the record pertains, from laboratories that test urine specimens for the presence of illegal drugs, from supervisors and managers and other NSA/CSS employees, from confidential sources, and from other sources as appropriate and required.

Exemptions claimed for the system:

Information specifically authorized to be classified under E.O. 12958, as implemented by DoD 5200.1-R, may be exempt pursuant to 5 U.S.C. 552a(k)(1).

An exemption rule for this record system has been promulgated according to the requirements of 5 U.S.C. 553(b)(1), (2), and (3), (c) and (e) and published in 32 CFR part 322. For additional information contact the system manager.

[FR Doc. E8-23021 Filed 9-30-08; 8:45 am]

BILLING CODE 5001-06-P